DEPARTMENT OF TRANSPORTATION

National Highway Traffic Safety Administration

49 CFR Part 575

[Docket No. NHTSA-05-xx]

RIN 2127-AF81

Truck-Camper Loading; Correction

AGENCY: National Highway Traffic Safety Administration (NHTSA), Department of Transportation (DOT).

ACTION: Correcting amendment.

SUMMARY: On July 12, 1996, the National Highway Traffic Safety Administration (NHTSA) published a final rule that rescinded Federal Motor Vehicle Safety Standard No. 126, Truck-camper loading, and combined its provisions with 49 CFR 575.103, Truck-camper loading. When combining these two regulations, NHTSA inadvertently changed a cross reference so that it refers to only one of five information requirements, instead of all five as it had previously. This document corrects that error.

DATES: Effective August 11, 2005.

FOR FURTHER INFORMATION CONTACT: Mary Versailles, Office of International Policy, Fuel Economy and Consumer Programs, (Telephone: 202-366-0846) (Fax: 202-493-2290).

SUPPLEMENTARY INFORMATION: On July 12, 1996, the National Highway Traffic Safety Administration (NHTSA) published a final rule that rescinded Federal Motor Vehicle Safety Standard No. 126, Truck-camper loading, and combined its provisions with 49 CFR 575.103, Truck-camper loading (61 FR 36655).

Prior to the July 12, 1996, final rule, 49 CFR 575.103(e) required manufacturers of trucks capable of accommodating a slide-in camper to provide five items of information contained in paragraphs (e)(1) through (5) of that standard. If a manufacturer recommended that the truck not be used for a slide-in camper, the manufacturer was required by 49 CFR 575.103(f) to provide a statement to that effect instead of the information in 49 CFR 575.103(e).

The July 12, 1996, final rule renumbered the then existing 49 CFR 575.103(e) as 49 CFR 575.103(e)(2)(i) and the then existing 49 CFR 575.103(f) as 49 CFR 575.103(e)(2)(ii). However, the cross reference in 49 CFR 575.103(e)(2)(ii) was incorrectly listed as 49 CFR 575.103(e)(2)(i)(E) (the then existing 49 CFR 575.103(e)(5)) instead of all of 49 CFR 575.103(e)(2)(i).

This notice corrects that error.

This correction will not impose or relax any substantive requirements or burdens on manufacturers. Therefore, NHTSA finds for good cause that any notice and opportunity for comment on this correcting amendment is not necessary.

List of Subjects in 49 CFR Part 575

Consumer protection, Motor vehicle safety, Reporting and recordkeeping, Tires.

49 CFR part 575 is corrected by making the following correcting amendment:

PART 575—[CORRECTED]

1. The authority citation continues to read as follows:

Authority: 49 U.S.C. 322, 30111, 30115, 30117, 30166; delegation of authority at CFR 1.50.

2. Paragraph 575.103(e)(2)(ii) is revised to read as follows:

§ 575.103 Truck-camper loading.

* * * * *

(e) Requirements

* * * * *

(2) Trucks

* * * * *

(ii) If a truck would accommodate a slide-in camper but the manufacturer of the truck recommends that the truck not be used for that purpose, the information specified in paragraph (e)(2)(i) of this section shall not be provided but instead the manufacturer shall provide a statement that the truck should not be used to carry a slide-in camper.

* * * * *

Issued: July 7, 2005.
Stephen R. Kratzke,
Associate Administrator for Rulemaking.

[FR Doc. 05-13651 Filed 7-11-05; 8:45 am]

BILLING CODE 4910-59-P